DEPARTMENT OF TRANSPORTATION

National Highway Traffic Safety Administration

[Docket No. NHTSA-2003-16612; Notice 3]

Decision That Nonconforming 2002 Ferrari Spider and Coupe Passenger Cars Manufactured From September 1, 2002 Through December 31, 2002 Are Eligible for Importation

AGENCY: National Highway Traffic Safety Administration, DOT.

ACTION: Notice of decision by the National Highway Traffic Safety Administration that nonconforming 2002 Ferrari Spider and Coupe passenger cars manufactured from September 1, 2002 through December 31, 2002 are eligible for importation.

SUMMARY: This document announces a decision by the National Highway Traffic Safety Administration (NHTSA) that certain 2002 Ferrari Spider and Coupe passenger cars manufactured from September 1, 2002 through December 31, 2002 that were not originally manufactured to comply with all applicable Federal motor vehicle safety standards (FMVSS) are eligible for importation into the United States because they are substantially similar to vehicles originally manufactured for importation into and sale in the United States and that were certified by their manufacturer as complying with the safety standards (the U.S. certified version of the 2002 Ferrari Spider and Coupe passenger car manufactured from September 1, 2002 through December 31, 2002), and they are capable of being readily altered to conform to the standards.

DATES: This decision was effective April 1, 2004. The agency notified the petitioner at that time that the subject vehicles are eligible for importation. This document provides public notice of the eligibility decision.

FOR FURTHER INFORMATION CONTACT: Coleman Sachs, Office of Vehicle Safety Compliance, NHTSA (202-366-3151).

SUPPLEMENTARY INFORMATION:

Background

Under 49 U.S.C. 30141(a)(1)(A), a motor vehicle that was not originally manufactured to conform to all applicable FMVSS shall be refused admission into the United States unless NHTSA has decided that the motor vehicle is substantially similar to a motor vehicle originally manufactured for importation into and sale in the United States, certified as required under 49 U.S.C. 30115, and of the same model year as the model of the motor vehicle to be compared, and is capable of being readily altered to conform to all applicable FMVSS.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

Automobile Concepts, Inc. of North Miami, Florida (“AMC”) (Registered Importer 01-278), petitioned NHTSA to decide whether 2002 Ferrari Spider and Coupe passenger cars manufactured from September 1, 2002 through December 31, 2002 are eligible for importation into the United States. NHTSA published a notice of the petition on December 11, 2003 (68 FR 69125) to afford an opportunity for public comment. The reader is referred to that notice for a thorough description of the petition.

One substantive comment was received in response to the notice of petition, from Ferrari North America, Inc. (FNA), the U.S. representative of the vehicle's original manufacturer. FNA's comment addressed issues it believed AMC had overlooked in describing alterations needed to conform 2002 Ferrari Spider and Coupe passenger cars manufactured from September 1, 2002 through December 31, 2002 models to certain of the FMVSS. FNA observed that the non-U.S. certified 2002 Ferrari 360 passenger cars that are the subject of the instant petition (i.e., those manufactured from September 1, 2002 through December 31, 2002), are identical, with respect to their conformance to applicable FMVSS, to the nonconforming 2002 Ferrari 360 passenger cars manufactured before September 1, 2002 that NHTSA has previously decided to be eligible for importation, as reflected in a notice of decision published on April 3, 2003 at 68 FR 16346 (Docket No. NHTSA-2002-13219). As a consequence, FNA contended that if the agency were to grant import eligibility to 2002 Ferrari 360 passenger cars manufactured from September 1, 2002 through December 31, 2002, that decision would have to be made on the same basis as the decision to grant import eligibility to the 2002 models manufactured before September 1, 2002.

The agency accorded AMC an opportunity to respond to the issues raised by FNA. FNA's comments, AMC's responses, and NHTSA's analysis are set forth below for each of the issues that FNA raised.

(1) FMVSS No. 201 Occupant Protection in Interior Impact: The petition identified a number of interior trim components in the non-U.S. certified model that must be replaced with U.S.-model components or modified to meet the standard. FNA identified 16 interior trim components that are not found in the non-U.S. certified model and stated that all of these should be replaced with U.S.-model components. FNA also requested additional information concerning the petitioner's proposed substitution of occupant interior components purchased from another RI. FNA expressed the belief that an RI responsible for certifying a vehicle cannot rely on components manufactured by another RI when conforming the vehicle, whether or not the components have been shown to bring the vehicle into compliance with the standard. AMC responded that it was aware of the need for replacing 16 interior components, but could not provide technical information regarding the components that it intended to purchase from J.K. Technologies, another RI, on account of a nondisclosure agreement that it had entered with that company.

NHTSA's Analysis: The modifications AMC identified as needed to conform the vehicle to the standard would not prelude the vehicle from being deemed eligible for importation. Conformity packages submitted for vehicles imported under the decision must demonstrate that the vehicle is equipped with components that allow it to achieve compliance with the standard. Any modification or replacement of components necessary to meet the requirements of the standard must be shown to bring the vehicle into compliance. Such proof must be submitted by an RI as part of any conformity package submitted for 2002 Ferrari Spider and Coupe passenger cars manufactured from September 1, 2002 through December 31, 2002.

Addressing the issue that FNA raised regarding the purchase by one RI of components manufactured or modified by another RI, the agency notes that if the supplier has proven to the agency's satisfaction, either through a import eligibility petition that was granted by the agency or through a conformity package that the agency approved, that a vehicle complies with the standard when equipped with the components at issue, the agency will allow the purchasing RI to demonstrate conformance by the installation of those components. This necessarily assumes the vehicle for which the supplying RI has manufactured or modified the components is of the same make, model, and model year as the vehicle on which the component is to be installed, or if the vehicle is of a different model year, there were no changes affecting compliance with the standard at issue between that model year and the model year of the vehicle for which the component is purchased.

(2) FMVSS No. 301 Fuel System Integrity: The petition identified a number of fuel system components in the non-U.S. certified model that must be replaced with U.S.-model components to achieve compliance with the standard. FNA contended that the same modifications required for the 2001 and 2002 Ferrari Spider and Coupe passenger cars manufactured before September 1, 2002, be required for those manufactured from September 1, 2002 through December 31, 2002. AMC responded that it intended to perform modifications identical to those identified as needed to conform vehicles in the earlier production run.

NHTSA's Analysis: Because FNA described the 2001 and 2002 models as being identical with respect to their conformance with all applicable FMVSS and AMC did not take issue with this representation, the agency has concluded that the following modifications, which were identified as need to conform the 2002 Ferrari 360 Spider and Coupe passenger cars manufactured before September 1, 2002 to the requirements of the standard, are appropriate for the those manufactured from September 1, 2002 through December 31, 2002 as well:

(a) replacement of the fuel/vapor separator, rollover valve, filler neck, vapor lines, evaporative (charcoal) canister, air pump, and associated hardware on non-U.S. certified versions of the vehicle to make them identical to those in the U.S. certified version;

(b) modification of the U.S.-model filler neck so that it can be attached to the non-U.S.-model tank; and

(c) relocation of the charcoal canister, air pump, fuel filler neck, and rollover valve so that they are in essentially the same position as those components found on the U.S. certified vehicle.

(3) FMVSS No. 401 Interior Trunk Release: The petition stated that an extra cable and actuator must be installed on the hood latch in order to allow an occupant to unlatch the hood from within the trunk, as required by the standard. FNA disagreed that the modifications described in the petition would bring the vehicle into compliance with all applicable requirements of paragraph S4.3(b)(1) of the standard. AMC responded by stating that it will install U.S.-model components so that the non-U.S.-certified vehicle complies with the standard in the same manner as the U.S.-certified vehicle.

NHTSA's Analysis: Because AMC's agreement to install U.S.-model components resolves the issue raised by FNA, the agency has concluded that the vehicles are capable of being readily altered in that manner to meet the requirements of the standard.

Conclusion

In view of the above considerations, NHTSA decided to grant the petition.

Vehicle Eligibility Number for Subject Vehicles

The importer of a vehicle admissible under any final decision must indicate on the form HS-7 accompanying entry the appropriate vehicle eligibility number indicating that the vehicle is eligible for entry. VSP-433 is the vehicle eligibility number assigned to vehicles admissible under this notice of final decision.

Final Decision

Accordingly, on the basis of the foregoing, NHTSA decided that 2002 Ferrari Spider and Coupe passenger cars manufactured from September 1, 2002 through December 31, 2002 that were not originally manufactured to comply with all applicable FMVSS, are substantially similar to 2002 Ferrari Spider and Coupe passenger cars manufactured from September 1, 2002 through December 31, 2002 originally manufactured for importation into and sale in the United States and certified under 49 U.S.C. 30115, and are capable of being readily altered to conform to all applicable FMVSS.

Authority: 49 U.S.C. 30141(a)(1)(A) and (b)(1); 49 CFR 593.8; delegations of authority at 49 CFR 1.50 and 501.8.

Claude H. Harris,
Director, Office of Vehicle Safety Compliance.

[FR Doc. E6-8539 Filed 6-1-06; 8:45 am]

BILLING CODE 4910-59-P